DEPARTMENT OF COMMERCE

International Trade Administration

[C-489-834]

Large Diameter Welded Pipe From the Republic of Türkiye: Preliminary Results and Rescission, in Part, of Countervailing Duty Administrative Review; 2022

AGENCY: Enforcement and Compliance, International Trade Administration, Department of Commerce.

SUMMARY: The U.S. Department of Commerce (Commerce) preliminarily determines that countervailable subsidies were provided to producers and exporters of large diameter welded pipe (welded pipe) from the Republic of Türkiye (Türkiye) during the period of review (POR) January 1, 2022, through December 31, 2022. Interested parties are invited to comment on these preliminary results.

DATES: Applicable June 6, 2024.

FOR FURTHER INFORMATION CONTACT: Ajay Menon, AD/CVD Operations, Office IX, Enforcement and Compliance, International Trade Administration, U.S. Department of Commerce, 1401 Constitution Avenue NW, Washington, DC 20230; telephone: (202) 482-0208.

SUPPLEMENTARY INFORMATION:

Background

On May 2, 2019, Commerce published in the Federal Register a countervailing duty (CVD) order on welded pipe from Türkiye.¹ On May 2, 2023, Commerce published the notice of the opportunity to request a review of the Order.² On July 12, 2023, Commerce published the notice of the initiation of this administrative review in the Federal Register.³ For a complete description of the events that followed the initiation of this review, see the Preliminary Decision Memorandum.⁴ A list of topics included in the Preliminary Decision Memorandum is provided in Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

¹ Large Diameter Welded Pipe from the Republic of Türkiye: Countervailing Duty Orders, 84 FR 18771 (May 2, 2019) (Order).

² See Antidumping or Countervailing Duty Order, Finding, or Suspended Investigation; Opportunity To Request Administrative Review and Join Annual Inquiry Service List, 88 FR 27445 (May 2, 2023).

³ See Initiation of Antidumping and Countervailing Duty Administrative Reviews, 88 FR 44262 (July 12, 2023).

⁴ See Memorandum, “Decision Memorandum for the Preliminary Results of the Countervailing Duty Administrative Review of Large Diameter Welded Pipe from the Republic of Türkiye; 2022,” dated concurrently with, and hereby adopted by, this notice (Preliminary Decision Memorandum).

Scope of the Order

The product covered by the Order is welded pipe from Türkiye. For a complete description of the scope of the Order, see the Preliminary Decision Memorandum.

Methodology

Commerce is conducting this administrative review in accordance with 751(a)(1)(A) of Tariff Act of 1930, as amended (the Act). For each of the subsidy programs found countervailable, Commerce preliminarily determines that there is a subsidy, i.e., a financial contribution by an “authority” that gives rise to a benefit to the recipient, and that the subsidy is specific.⁵

⁵ See sections 771(5)(B) and (D) of the Act regarding financial contribution; section 771(5)(E) of the Act regarding benefit; and section 771(5A) of the Act regarding specificity.

Rescission of Administrative Review, in Part

Pursuant to 19 CFR 351.213(d)(3), Commerce's practice is to rescind an administrative review of a CVD order when it concludes that there are no suspended entries of subject merchandise during the POR.⁶ Normally, upon completion of an administrative review, the suspended entries are liquidated at the CVD assessment rate calculated for the review period.⁷ Therefore, for an administrative review of a company to be conducted, there must be a reviewable, suspended entry that Commerce can instruct U.S. Customs and Border Protection (CBP) to liquidate at the CVD assessment rate calculated for the POR.⁸

⁶ See, e.g., Lightweight Thermal Paper from the People's Republic of China: Notice of Rescission of Countervailing Duty Administrative Review; 2015, 82 FR 14349 (March 20, 2017); see also Circular Welded Carbon Quality Steel Pipe from the People's Republic of China: Rescission of Countervailing Duty Administrative Review; 2017, 84 FR 14650 (April 11, 2019).

⁷ See 19 CFR 351.212(b)(2).

⁸ See 19 CFR 351.213(d)(3).

According to the CBP import data, the 10 companies listed in Appendix II had no entries of subject merchandise during the POR.⁹ Therefore, we notified parties that we intend to rescind this administrative review with respect to these 10 companies and provided parties an opportunity to submit comments, including factual information to demonstrate whether there were reviewable entries during the POR for these companies.¹⁰ We received no comments. Therefore, in the absence of suspended entries of subject merchandise during the POR, in accordance with 19 CFR 351.213(d)(3), we are rescinding the administrative review with respect to the companies listed in Appendix II.

⁹ See Memorandum, “U.S. Customs and Border Protection Data Query,” dated July 14, 2023.

¹⁰ See Memorandum, “Notice of Intent to Rescind Review, in Part,” dated August 28, 2023.

Preliminary Results of Review

As a result of this review, we preliminarily determine the following net countervailable subsidy rates for the period January 1, 2022, through December 31, 2022:

¹¹ Commerce initiated this review on both HDM and HDM Spiral Kaynakli Celik Boru A.S. (HDM Spiral). See Initiation Notice, 88 FR at 44273. However, in the LTFV investigation, we found that HDM acquired HDM Spiral on October 31, 2017, and HDM Spiral ceased to exist. See Large Diameter Welded Pipe from the Republic of Turkey: Preliminary Determination of Sales at Less Than Fair Value and Postponement of Final Determination, 83 FR 43646, 43647 (August 27, 2018), unchanged in Large Diameter Welded Pipe from the Republic of Turkey: Final Determination of Sales at Less Than Fair Value, 84 FR 6362 (February 27, 2019).

Company | Subsidy rate (percent ad valorem)
Çimtaş Boru Imalatari Ticaret Ltd | 2.18
HDM Çelik Boru Sanayi Ve Ticaret A.S.¹¹ | 6.31

Disclosure and Public Comment

Commerce intends to disclose its calculations performed to interested parties for these preliminary results within five days of any public announcement or, if there is no public announcement, within five days of the date of publication of this notice in the Federal Register in accordance with 19 CFR 351.224(b).

Pursuant to 19 CFR 351.309(c), interested parties may submit case briefs to Commerce no later than 30 days after the date of publication of this notice. Rebuttal briefs, limited to issues raised in the case briefs, may be filed not later than five days after the date for filing case briefs. Interested parties who submit case briefs or rebuttal briefs in this proceeding must submit: (1) a table of contents listing each issue; and (2) a table of authorities.¹² All briefs must be filed electronically using ACCESS. An electronically filed document must be received successfully in its entirety in ACCESS by 5:00 p.m. Eastern Time on the established deadline.

¹² See 19 CFR 351.309(d); see also Administrative Protective Order, Service, and Other Procedures in Antidumping and Countervailing Duty Proceedings, 88 FR 67069, 67077 (September 29, 2023) (APO and Service Procedures).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹³ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁴

¹³ We use the term “issue” here to describe an argument that Commerce would normally address in a comment of the Issues and Decision Memorandum.

¹⁴ See APO and Service Procedures.

Pursuant to 19 CFR 351.310(c), interested parties who wish to request a hearing must submit a written request to the Assistant Secretary for Enforcement and Compliance, filed electronically via ACCESS by 5:00 p.m. Eastern Time within 30 days after the date of publication of this notice. Requests should contain: (1) the party's name, address, and telephone number; (2) the number of participants; and (3) a list of issues to be discussed. Issues raised in the hearing will be limited to those raised in the respective case briefs. If a request for a hearing is made, Commerce will inform parties of the scheduled date for the hearing.

Final Results of Administrative Review

Unless extended, pursuant to section 751(a)(3)(A) of the Act, Commerce intends to issue the final results of this administrative review, including the results of its analysis of the issues raised by parties in their comments, within 120 days after the date of publication of these preliminary results.

Assessment Rates

Consistent with section 751(a)(1) of the Act and 19 CFR 351.212(b)(2), upon issuance of the final results, Commerce will determine, and CBP shall assess, countervailing duties on all appropriate entries covered by this review. We intend to issue instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies listed in Appendix II for which we are rescinding this administrative review, Commerce will instruct CBP to assess countervailing duties on all appropriate entries at a rate equal to the cash deposit of estimated countervailing duties required at the time of entry, or withdrawal from warehouse, for consumption, during the period January 1, 2022, through December 31, 2022, in accordance with 19 CFR 351.212(c)(l)(i). Commerce intends to issue appropriate assessment instructions directly to CBP no earlier than 35 days after the date of publication of this notice in the Federal Register.

Cash Deposit Requirements

In accordance with section 751(a)(2)(C) of the Act, Commerce also intends, upon publication of the final results, to instruct CBP to collect cash deposits of estimated countervailing duties in the amounts shown for the companies listed above with regard to shipments of subject merchandise entered, or withdrawn from warehouse, for consumption on or after the date of publication of the final results of this review. For all non-reviewed firms, CBP will continue to collect cash deposits of estimated countervailing duties at the all-others rate or the most recent company-specific rate applicable to the company, as appropriate. These cash deposit requirements, when imposed, shall remain in effect until further notice.

Notification to Interested Parties

We are issuing and publishing these preliminary results in accordance with sections 751(a)(1) and 777(i)(1) of the Act, and 19 CFR 351.221(b)(4).

Dated: May 30, 2024.
Abdelali Elouaradia,
Deputy Assistant Secretary for Enforcement and Compliance.

Appendix I—List of Topics Discussed in the Preliminary Decision Memorandum

I. Summary

II. Background

III. Scope of the Order

IV. Diversification of Türkiye's Economy

V. Subsidies Valuation

VI. Benchmarks and Interest Rates

VII. Analysis of Programs

VIII. Recommendation

Appendix II—Companies for Which the Review Is Rescinded

1. Cagil Makina San ve Tic A.S.

2. Emek Boru Makina Sanayi ve Ticaret A.S.

3. Erciyas Celik Boru Sanayi A.S.

4. Mazlum Mangtay Boru Son. Ins. Tar.Urn.San.ve Tic. A.S.

5. Noksel Celik Boru Sanayi A.S.

6. Ozbal Celik Boru San. Tic. Ve TAAH A.S.

7. Spirally Welded Steel Pipe Inc.

8. Toscelik Profil ve Sac End. A.S.

9. Toscelik Spiral Boru Uretim A.S

10. Umran Celik Boru Sanayii A.S.

[FR Doc. 2024-12439 Filed 6-5-24; 8:45 am]

BILLING CODE 3510-DS-P